ENVIRONMENTAL PROTECTION AGENCY

40 CFR Part 70

[EPA-R08-OAR-2020-0722; FRL-10019-26-Region 8]

Proposed Full Approval of Revised Clean Air Act Operating Permit Program; North Dakota

AGENCY: Environmental Protection Agency (EPA).

ACTION: Proposed rule.

SUMMARY: The Environmental Protection Agency (EPA or the “Agency”) is proposing full approval of the revised and recodified North Dakota operating permit program for stationary sources subject to title V of the Clean Air Act (CAA or the “Act”). On August 6, 2018, North Dakota submitted a request for approval of its revisions to the North Dakota operating permit program (the “title V program”) for stationary sources subject to title V of the CAA and recodification of the State's title V program under a new title of the North Dakota Administrative Code (NDAC). The EPA determined that the revised and recodified program substantially met the requirements of title V of the Act and Code of Federal Regulations (CFR) but was not fully approvable because the State law provisions for judicial review were not consistent with program requirements found in the CFR. Thus, EPA issued an interim approval of North Dakota's title V program. North Dakota has made the changes required for full program approval. Accordingly, the EPA is proposing this action in accordance with the CAA and CFR title V program approval requirements.

DATES: Written comments must be received on or before March 26, 2021.

ADDRESSES: Submit your comments, identified by Docket ID No. EPA-R08-OAR-2020-0722, to the Federal Rulemaking Portal: https://www.regulations.gov. Follow the online instructions for submitting comments. Once submitted, comments cannot be edited or removed from www.regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www.epa.gov/dockets/commenting-epa-dockets.

Docket: All documents in the docket are listed in the www.regulations.gov index. Although listed in the index, some information is not publicly available, e.g., CBI or other information whose disclosure is restricted by statute. Certain other material, such as copyrighted material, will be publicly available only in hard copy. Publicly available docket materials are available electronically in www.regulations.gov. To reduce the risk of COVID-19 transmission, for this action we do not plan to offer hard copy review of the docket. Please email or call the person listed in the FOR FURTHER INFORMATION CONTACT section if you need to make alternative arrangements for access to the docket.

FOR FURTHER INFORMATION CONTACT: Gregory Lohrke, Air and Radiation Division, EPA, Region 8, Mailcode 8ARD, 1595 Wynkoop Street, Denver, Colorado, 80202-1129, (303) 312-6396, lohrke.gregory@epa.gov.

SUPPLEMENTARY INFORMATION: Throughout this document “we,” “us,” and “our” means the EPA.

Proposed Action: In the “Rules and Regulations” section of this issue of the Federal Register, the EPA is publishing a direct final rule without prior proposal to amend 40 CFR part 70 to reflect the full final approval of the North Dakota title V program. The EPA views this as a noncontroversial action and anticipates no adverse comments. A detailed rationale for the action is set forth in the preamble to the direct final rule. If the EPA receives no adverse comments, EPA contemplates no further action. If the EPA receives adverse comments, EPA will withdraw the direct final rule and will address all public comments in a subsequent final rule based on this proposed rule. The EPA will not institute a second comment period on this action. Any parties interested in commenting must do so at this time. For additional information, see the direct final rule of the same title which is located in the “Rules and Regulations” section of this issue of the Federal Register.

List of Subjects in 40 CFR Part 70

Environmental protection, Air pollution control, Intergovernmental relations, Title V.

Dated: February 11, 2021.
Debra Thomas,
Acting Regional Administrator, Region 8.

[FR Doc. 2021-03266 Filed 2-23-21; 8:45 am]

BILLING CODE 6560-50-P